FEDERAL TRADE COMMISSION

Public Workshop: Marketing, Self-Regulation & Childhood Obesity

AGENCIES: Federal Trade Commission (FTC or Commission); Department of Health and Human Services (HHS).

ACTION: Notice of Extension of Public Comment Period.

SUMMARY: Due to requests for additional time to prepare more comprehensive comments in response to the issues that were addressed by the public workshop, an amendment is being issued to the Notice Announcing Public Workshop: Marketing, Self-Regulation & Childhood Obesity to extend the time period during which persons may submit written comments on the workshop until August 12, 2005.

DATES: Comments must be received on or before Friday, August 12, 2005.

ADDRESSES: Comments should refer to “Food Marketing to Kids Workshop—Comment, Project No. P034519” to facilitate the organization of comments. A comment filed in paper form should include this reference both in the text and on the envelope, and should be mailed or delivered, with two complete copies, to the following address: Federal Trade Commission/Office of the Secretary, Room 159-H (Annex H), 600 Pennsylvania Avenue, N.W., Washington, D.C. 20580. Because paper mail in the Washington area and at the Agency is subject to delay, please consider submitting your comments in electronic form, as prescribed below. Comments containing confidential material, however, must be filed in paper form, must be clearly labeled “Confidential,” and must comply with Commission Rule 4.9(c).¹

¹ The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by clicking on the following Web link: https://secure.commentworks.com/ftc-foodmarketingtokids and following the instructions on the Web-based form. To ensure that the Commission considers an electronic comment, you must file it on the Web-based form at the https://secure.commentworks.com/ftc-foodmarketingtokids Web link.

The FTC Act and other laws the Commission administers permit the collection of public comments to consider and use in this proceeding as appropriate. All timely and responsive public comments, whether filed in paper or electronic form, will be considered by the Commission, and will be available to the public on the FTC Web site, to the extent practicable, at http://www.ftc.gov. As a matter of discretion, the FTC makes every effort to remove home contact information for individuals from the public comments it receives before placing those comments on the FTC Web site. More information, including routine uses permitted by the Privacy Act, may be found in the FTC's privacy policy, at http://www.ftc.gov/ftc/privacy.htm.

FOR FURTHER INFORMATION CONTACT: Richard Kelly, (202) 326-3304, or Michelle Rusk, (202) 326-3148, FTC, Bureau of Consumer Protection. The FTC staff contacts can be reached by mail at: Federal Trade Commission, 601 New Jersey Avenue, NW., Washington, DC 20580. Jennifer Bishop, (202) 690-8384, HHS, Office of the Assistant Secretary for Planning and Evaluation. The HHS staff contact can be reached by mail at: The U.S. Department of Health and Human Services, 200 Independence Avenue, SW., Room 447-D, Washington, DC 20201.

A detailed agenda and additional information on the workshop is posted on the FTC's Web site at www.ftc.gov/bcp/workshops/foodmarketingtokids/index.htm.

SUPPLEMENTARY INFORMATION:

Background and Workshop Goals

Obesity in children has recently become one of the top public health issues in the United States. As a result, increased attention has been given to the importance of a balanced and nutritious diet and physical activity in childhood to ensure healthy growth and development and prevent chronic conditions and disease, such as obesity. Within both the government and the private sector, multiple efforts are being taken or proposed to find and implement effective measures to reverse the rise of childhood obesity. These include a wide variety of approaches, including identifying and funding additional research on childhood obesity, considering changes to food and beverage labeling, encouraging physical activity, and educating parents and children about the importance of physical activity and eating a balanced, nutritious diet.

One frequent area of attention is the role of food and beverage advertising and marketing directed to children. Industry members in the United States have adopted their own set of guidelines to encourage responsible advertising, including food advertising, to children. These guidelines are administered by the Council of Better Business Bureau's Children's Advertising Review Unit (CARU). In recent years, many individual companies in the food, beverage, and restaurant industries, and in the media and entertainment industries, have also taken actions to advance responsible food and beverage marketing to children and promote healthy lifestyles.

In light of the widespread public interest in marketing of food and beverages to children, the FTC and HHS hosted a public workshop, “Marketing, Self-Regulation & Childhood Obesity,” in Washington, DC on July 14 and 15, 2005. The workshop provided a forum for discussion of ongoing industry self-regulatory efforts that seek to address the marketing of food and beverages to children.² At the workshop, participants discussed industry members' efforts to address concerns about marketing to children, and CARU's efforts to encourage responsible industry advertising. It also provided a forum to hear from consumer advocacy and public health groups concerning current industry practices. Specific topics and issues addressed at the workshop are set forth in the FTC and HHS Notice Announcing Public Workshop: Marketing, Self-Regulation & Childhood Obesity, published in the Federal Register on May 12, 2005.

² The workshop focused on food and beverage marketing to children. It did not cover other possible contributors to childhood obesity, including sedentary behaviors like watching television, playing electronic games on a computer, or decreases in exercise, or the marketing of related sedentary entertainment products.

Extension of Time for Filing Comments

The time period during which public comments may be submitted is extended. Interested parties may submit written comments on the published questions and other related issues addressed by the workshop until August 12, 2005. Especially useful are any studies, surveys, research, and empirical data. All comments should be filed as prescribed in the ADDRESSES section above, and must be received on or before Friday, August 12, 2005.

Donald S. Clark,
Secretary.

[FR Doc. 05-15683 Filed 8-5-05; 8:45 am]

BILLING CODE 6750-01-P